DEPARTMENT OF AGRICULTURE

Rural Housing Service

Notice of Request for Revision of a Currently Approved Information Collection

AGENCY: Rural Housing Service (RHS).

ACTION: Proposed collection; comments requested.

SUMMARY: In accordance with the Paperwork Reduction Act of 1995, this notice announces the Rural Housing Service's intention to request a revision of a currently approved information collection in support of the Rural Community Development Initiative (RCDI) grant program.

DATES: Comments on this notice must be received by April 3, 2018 to be assured of consideration.

FOR FURTHER INFORMATION CONTACT: Shirley Stevenson, Community Programs Specialist, Community Programs Division, RHS, USDA, 1400 Independence Ave. SW, Mail stop 0787, Washington, DC 20250-0787, Telephone (202) 205-9685, Email shirley.stevenson@wdc.usda.gov.

SUPPLEMENTARY INFORMATION:

Title: Rural Community Development Initiative.

OMB Number: 0575-0180.

Expiration Date of Approval: May 31, 2018.

Type of Request: Revision of a currently approved information collection.

Abstract: RHS, an Agency within the USDA Rural Development mission area, will administer the RCDI grant program through their Community Facilities Division. The intent of the RCDI grant program is to develop the capacity and ability of rural area recipients to undertake projects through a program of technical assistance provided by qualified intermediary organizations. The eligible recipients are nonprofit organizations, low-income rural communities, or federally recognized Indian tribes. The intermediary may be a qualified private, nonprofit, or public (including tribal) organization. The intermediary is the applicant. The intermediary must have been organized a minimum of 3 years at the time of application. The intermediary will be required to provide matching funds, in the form of cash or committed funding, in an amount at least equal to the RCDI grant.

Estimate of Burden: Public reporting burden for this collection of information is estimated to average 1.27 hours per response.

Respondents: Intermediaries and recipients.

Estimated Number of Respondents: 900.

Estimated Number of Responses per Respondent: 3.94.

Estimated Number of Responses: 3,550.

Estimated Total Annual Burden on Respondents: 4,526.

Copies of this information collection can be obtained from Jeanne Jacobs, Regulations and Paperwork Management Branch, at (202) 692-0040.

Comments: Comments are invited on: (a) Whether the proposed collection of information is necessary for the proper performance of the functions of the Agency, including whether the information will have practical utility; (b) the accuracy of Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent to Jeanne Jacobs, Regulations and Paperwork Management Branch, U.S. Department of Agriculture, Rural Development, STOP 0742, 1400 Independence Ave. SW, Washington, DC 20250. All responses to this notice will be summarized and included in the request for OMB approval. All comments will also become a matter of public record.

Dated: January 25, 2018.
Curtis M. Anderson,
Acting Administrator, Rural Housing Service.

[FR Doc. 2018-02063 Filed 2-1-18; 8:45 am]

BILLING CODE 3410-XV-P